DEPARTMENT OF COMMERCE

Foreign-Trade Zones Board

[Docket 48-2008]

Foreign-Trade Zone 176—Rockford, IL Application for Subzone Cellusuede Products, Inc. (Flock Fiber) Rockford, IL

An application has been submitted to the Foreign-Trade Zones Board (the Board) by the Greater Rockford Airport Authority, grantee of FTZ 176, requesting special-purpose subzone status for the manufacture of flock fiber at the facility of Cellusuede Products, Inc. (Cellusuede), located in Rockford, Illinois. The application was submitted pursuant to the provisions of the Foreign-Trade Zones Act, as amended (19 U.S.C. 81a-81u), and the regulations of the Board (15 CFR part 400). It was formally filed on September 3, 2008.

The Cellusuede facility (55 employees, 9 acres, 7-9 million pounds of flock per year) is located at the intersection of North Madison Street and Prairie Street, in Rockford, Illinois. The facility is used to manufacture and warehouse precision cut flocking (duty-free). Components and materials sourced from abroad (representing 50-65% of the value of the finished product) include: Synthetic filament tow, artificial filament tow, polyester fibers, polypropylene fibers and rayon fibers (HTSUS duty rate ranges from 4.3 to 7.5%).

FTZ procedures would exempt Cellusuede from customs duty payments on the foreign components used in export production. The company anticipates that 10-20 percent of the plant's shipments will be exported. On its domestic sales, Cellusuede could choose the duty-free rate during customs entry procedures that applies to finished flock for the foreign inputs noted above. The request indicates that the savings from FTZ procedures would help improve the plant's international competitiveness.

In accordance with the Board's regulations, Elizabeth Whiteman of the FTZ staff is designated examiner to investigate the application and report to the Board.

Public comment is invited from interested parties. Submissions (original and 3 copies) shall be addressed to the Board's Executive Secretary at the address below. The closing period for their receipt is November 10, 2008. Rebuttal comments in response to material submitted during the foregoing period may be submitted during the subsequent 15-day period to November 25, 2008.

A copy of the application and accompanying exhibits will be available for public inspection at each of the following locations:

U.S. Department of Commerce Export Assistance Center, 605 Fulton Ave., Suite E103, Rockford, IL 61103.

Office of the Executive Secretary, Foreign-Trade Zones Board, U.S. Department of Commerce, Room 2111, 1401 Constitution Ave., NW., Washington, DC 20230.

FOR FURTHER INFORMATION CONTACT: Elizabeth Whiteman at Elizabeth_Whiteman@ita.doc.gov or (202) 482-0473.

Dated: September 3, 2008.
Andrew McGilvray,
Executive Secretary.

[FR Doc. E8-21231 Filed 9-10-08; 8:45 am]

BILLING CODE 3510-DS-P